DEPARTMENT OF JUSTICE

Notice of Lodging of Consent Decrees Pursuant to the Comprehensive Environmental Response, Compensation, and Liability Act

In accordance with Departmental policy, notice is hereby given that on September 28, 2001, two proposed consent decrees in the case captioned United States v. Honeywell International Inc., et al., Civil Action No. C-3-00-536 (S.D. Ohio), were lodged with the United States District Court for the Southern District of Ohio. The proposed consent decrees relate to the AlliedSignal/Ironton Coke Superfund Site in Ironton, Lawrence County, Ohio. The proposed consent decrees would resolve civil claims of the United States for recovery of response costs under Section 107 of the Comprehensive Environmental Response, Compensation,and Liability Act, as amended, 42 U.S.C. 9607, against Honeywell International Inc. (“Honeywell”) and Amcast Industrial Corp. (“Amcast”). The proposed consent decree with Honeywell would require Honeywell to pay the United States $900,000 in partial reimbursement of past response costs, and to pay future response costs that will be incurred by the United States. The proposed consent decree with Amcast would require Amcast to pay the United States $41,016 in partial reimbursement of past response costs.

The Department of Justice will receive, for a period of thirty (30) days from the date of this publication, comments relating to the proposed consent decrees. Comments should be addressed to the Assistant Attorney General of the Environment and Natural Resource Division, Department of Justice, Washington, DC 20530, and should refer to United States v. Honeywell International Inc. et al., Civil Action No. C-3-00-536, and DOJ Reference No. 90-11-3-07044.

The proposed consent decrees may be examined at: (1) The Office of the United States Attorney for the Southern District of Ohio, 602 Federal Building, 200 W. Second St., Dayton, OH 45402; and (2) the United States Environmental Protection Agency (Region 5), 77 West Jackson Boulevard, Chicago, Illinois 60604-3590. Copies of the proposed consent decrees may be obtained by mail from the Department of Justice Consent Decree Library, P.O. Box 7611, Washington, DC 20044. In requesting copies, please refer to the above-referenced case and DOJ Reference Number and enclose a check for $7.50 for the Honeywell Consent Decree (30 pages at 25 cents per page reproduction cost), and $5.75 for the Amcast Consent Decree (23 pages at 25 cents per page reproduction cost) made payable to the Consent Decree Library.

William D. Brighton,
Assistant Section Chief, Environmental Enforcement Section, Environment and Natural Resources Division.

[FR Doc. 01-25871 Filed 10-12-01; 8:45 am]

BILLING CODE 4410-15-M